DEPARTMENT OF COMMERCE

Patent and Trademark Office

[Docket No. PTO-T-2022-0017]

USPTO To Accelerate Transition To Issuance of Electronic Trademark Registration Certificates; Issuing Next Certificates on May 24, 2022

AGENCY: United States Patent and Trademark Office, Commerce.

ACTION: Notice.

SUMMARY: The United States Patent and Trademark Office (USPTO) is accelerating the transition date for issuance of electronic trademark registration certificates to May 24, 2022. On and after that date, the electronic registration certificate will be the official registration certificate. Because of a nationwide shortage of the specialized paper, and a recent vendor disruption, the USPTO will not issue registration certificates between May 10 and May 23, 2022, while the USPTO transitions to this new program. The new program will make the issuance of registration certificates more resilient. After the USPTO begins issuing electronic registration certificates, trademark owners will have the option to order paper “presentation” copies. Registrants will also continue to be able to order certified copies of their trademark registrations.

FOR FURTHER INFORMATION CONTACT: Catherine Cain, Office of the Deputy Commissioner for Trademark Examination Policy, USPTO, at 571-272-8946 or TMFRNotices@uspto.gov.

SUPPLEMENTARY INFORMATION: The USPTO published a notice in the Federal Register on May 2, 2022 (87 FR 25623), notifying the public that it would begin issuing trademark registration certificates electronically via the Trademark Status and Document Retrieval (TSDR) system on June 7, 2022. The USPTO is accelerating the transition date for issuance of electronic trademark registration certificates to May 24, 2022. The new date accelerates the benefits of the electronic certificates, quickly adjusts for a paper vendor disruption that recently presented, and improves the resiliency of the USPTO to issue trademark registrations going forward.

The USPTO will not issue registration certificates between May 10 and May 23, 2022, while it transitions to the new, electronic process. In the course of addressing the issue caused by the paper shortage, the status of some applications was inadvertently changed to registered on May 10. The USPTO corrected the status of those applications to pending on May 11.

As stated in the May 2, 2022 notice, upon implementation of electronic trademark registration certificates, all registration certificates issued by the USPTO will be made under the electronic signature of the Director and with a digital seal, which will authenticate the registration. The USPTO will upload the official registration certificate to the TSDR database, and an electronic notice will be emailed to the trademark owner and all email addresses of record with a link to access the certificate upon issuance. Trademark owners will be able to use the emailed link to view, download, and print a complete copy of the registration certificate at no charge at any time. Trademark owners who file an initial application on or after the implementation date will be able to order presentation copies for $25 per copy through the Trademark Electronic Application System (TEAS). Trademark owners who filed an initial application before the implementation date will be able to order one presentation copy for free. Trademark owners will continue to be able to order certified copies of their trademark registration for a fee. The certified copy certifies the status and title of the registration and includes the signature of an authorized certifying officer.

Katherine K. Vidal,
Under Secretary of Commerce for Intellectual Property and Director of the United States Patent and Trademark Office.

[FR Doc. 2022-11196 Filed 5-23-22; 8:45 am]

BILLING CODE 3510-16-P